SPECIAL INSPECTOR GENERAL FOR IRAQ RECONSTRUCTION

Privacy Act of 1974; Notice of Privacy Act System of Records

AGENCY: Special Inspector General for Iraq Reconstruction.

ACTION: Notice.

SUMMARY: The Special Inspector for Iraq Reconstruction (SIGIR) has reviewed its management records to identify its Privacy Act systems and to ensure that all such systems are relevant, necessary, accurate, up-to-date, and covered by the appropriate legal or regulatory authority. This is the second notice published by this agency. It includes three SIGIR-wide systems of records including system managers, office titles, addresses, or locations. These are:

SIGIR-4—Employee Claims for Miscellaneous Reimbursement.

SIGIR-5—Travel Reimbursement Records.

SIGIR-6—Employee Training Requests and Payment Records.

DATES: Effective June 7, 2010.

FOR FURTHER INFORMATION CONTACT: Call or e-mail Kirt West, Deputy General Counsel, Telephone—703-604-0489; e-mail—kirt.west@sigir.mil.

ADDRESSES: SIGIR Deputy General Counsel, Office of General Counsel, SIGIR, 400 Army Navy Drive, Arlington, VA 22202-4704.

SUPPLEMENTARY INFORMATION: SIGIR has undertaken an agency-wide review of its records to identify all Privacy Act systems of records. As a result of this review, SIGIR is publishing its second Privacy Act systems of records notice, which includes three of its systems.

Dated: May 18, 2010.
Kirt West,
Deputy General Counsel, Special Inspector General for Iraq Reconstruction.

Table of Contents

List of Notices

SIGIR-4

SYSTEM NAME:

Employee Claims for Miscellaneous Reimbursement.

SECURITY CLASSIFICATION:

None.

SYSTEM LOCATION:

Office of the Director, Resource Management and Budget, SIGIR, 2011 Crystal Drive, Suite #1101, Arlington, VA 22202-4704.

CATEGORIES OF INDIVIDUALS COVERED BY THIS SYSTEM:

SIGIR employees who request reimbursement for losses, damage, or other miscellaneous claims relating to their SIGIR employment.

CATEGORIES OF RECORDS IN THE SYSTEM:

SIGIR employees' claim forms (SF Forms 1034), supporting evidence, and related documentation.

AUTHORITY FOR MAINTENANCE OF THE SYSTEM:

The SIGIR's enabling legislation, § 3001 of the Emergency Supplemental Appropriations Act for Defense and for the Reconstruction of Iraq and Afghanistan, 2004 (Pub. L. 108-106; 117 Stat. 1209, 1234-1238; 5 U.S.C. app. 8G note), as cumulatively amended, and the Inspector General Act of 1978, as amended, Public Law 95-452, 5 U.S.C. App. 3. The Privacy Act, 5 U.S.C. 552a; Employee Loss or Damage Claims, SIGIR Policy 5001.

PURPOSE(S):

To conduct necessary research and/or investigations into employee claims for reimbursement for loss, damage, or other miscellaneous claims, and to reimburse employees for verified claims.

ROUTINE USES OF RECORDS MAINTAINED IN THE SYSTEM, INCLUDING CATEGORIES OF USERS AND THE PURPOSE OF SUCH USES:

In addition to those disclosures generally permitted under 5 U.S.C. 552a(b) of the Privacy Act the records or information contained therein may specifically be disclosed outside the SIGIR as a “blanket” routine use pursuant to 5 U.S.C. 552a(b)(3) as set forth in SIGIR's System of Records Notice SIGIR-1—Investigative Files.

POLICIES AND PRACTICES FOR STORING, RETRIEVING, ACCESSING, RETAINING, AND DISPOSING OF RECORDS IN THE SYSTEM:

STORAGE:

SIGIR files consist of paper records maintained in file folders. The folders are stored in SIGIR's file cabinets and offices.

RETRIEVABILITY:

The records are retrieved by the name of the individual or by a unique control number assigned to each claim.

SAFEGUARDS:

These records are available only to those persons whose official duties require such access. The records are kept in limited access areas during duty hours and in locked file rooms or locked offices at all other times.

RETENTION AND DISPOSAL:

These files are kept in accordance with SIGIR's record retention schedule.

SYSTEM MANAGER(S) AND ADDRESS:

Office of the Director, Resource Management and Budget, SIGIR, 400 Army Navy Drive, Arlington, VA 22202-4704.

NOTIFICATION PROCEDURES:

All requests to determine whether this system of records contains a record pertaining to the requesting individual may be directed to the SIGIR Chief Freedom of Information Act Officer, 400 Army Navy Drive, Arlington, VA 22202-4704. The request should contain the individual's name, date of birth, Social Security number, identification number (if known), approximate date of record, and type of position.

RECORD ACCESS AND CONTESTING PROCEDURES:

Same as “Notification Procedures” above.

RECORD SOURCE CATEGORIES:

Information in these records is supplied by individuals claiming loss or damage or submitting other miscellaneous claims and witnesses or other persons involved in the process of verifying and processing employee claims.

EXEMPTIONS CLAIMED FOR THE SYSTEM:

None.

SIGIR-5

SYSTEM NAME:

Travel Reimbursement Records.

SECURITY CLASSIFICATION:

None.

SYSTEM LOCATION:

Office of the Director, Resource Management and Budget, SIGIR, 2011 Crystal Drive, Suite #1101, Arlington, VA 22202-4704.

CATEGORIES OF INDIVIDUALS COVERED BY THIS SYSTEM:

SIGIR employees who travel on official duty and are reimbursed for related expenses.

CATEGORIES OF RECORDS IN THE SYSTEM:

SIGIR employees' reimbursement claims for TDY and local travel, travel expense statements, and supporting documentation.

AUTHORITY FOR MAINTENANCE OF THE SYSTEM:

SIGIR's enabling legislation, § 3001 of the Emergency Supplemental Appropriations Act for Defense and for the Reconstruction of Iraq and Afghanistan, 2004 (Pub. L. 108-106; 117 Stat. 1209, 1234-1238; 5 U.S.C. app. 8G note), as cumulatively amended, and the Inspector General Act of 1978, as amended, Pub. L. 95-452, 5 U.S.C. App. 3. The Privacy Act, 5 U.S.C. 552a. SIGIR Official Travel policy, SIGIR .7154.

PURPOSE(S):

To provide a travel management process for SIGIR employees and provide for tracking and appropriate reimbursement of expenses incurred in such travel.

ROUTINE USES OF RECORDS MAINTAINED IN THE SYSTEM, INCLUDING CATEGORIES OF USERS AND THE PURPOSES OF SUCH USES:

In addition to those disclosures generally permitted under 5 U.S.C. 552a(b) of the Privacy Act the records or information contained therein may specifically be disclosed outside the SIGIR as a “blanket” routine use pursuant to 5 U.S.C. 552a(b)(3) as set forth in SIGIR's System of Records Notices SIGIR-1—Investigative Files.

POLICIES AND PRACTICES FOR STORING, RETRIEVING, ACCESSING, RETAINING, AND DISPOSING OF RECORDS IN THE SYSTEM:

STORAGE:

SIGIR files consist of paper records maintained in file folders, and in computer-processable storage media.

RETRIEVABILITY:

The records are retrieved by the name of the individual or by a unique control number assigned to each record.

SAFEGUARDS:

These records are available only to those persons whose official duties require such access. The records are kept in limited access areas during duty hours and in locked file rooms or locked offices at all times.

RETENTION AND DISPOSAL:

These records are kept in accordance with SIGIR's records retention schedule.

SYSTEM MANAGER(S) AND ADDRESS:

Office of the Director, Resource Management and Budget, SIGIR, 400 Army Navy Drive, Arlington, VA 22202-4704.

NOTIFICATION PROCEDURES:

All requests to determine whether this system of records contains a record pertaining to the requesting individual may be directed to the SIGIR Chief Freedom of Information Act Officer, 400 Army Navy Drive, Arlington, VA 22202-4704. The request should contain the individual's name, date of birth, Social Security number, identification number (if known), approximate date of record, and type of position.

RECORD ACCCESS AND CONTESTING PROCEDURES:

Same as “Notification Procedures” above.

RECORD SOURCE CATEGORIES:

Information in these records is supplied by the employee, information from travel authorizations, information from the finance function of the management division regarding reimbursement, and information from the SIGIR Travel Officer regarding reservations.

SYSTEMS EXEMPTED FROM CERTAIN PROVISIONS OF THE ACT:

None.

SIGIR-6

SYSTEM NAME:

Employee Training Requests and Payment Records.

SECURITY CLASSIFICATION:

None.

SYSTEM LOCATION:

Office of the Director, Resource Management and Budget, SIGIR, 2011 Crystal Drive, Suite #1101, Arlington, VA 22202-4704.

CATEGORIES OF INDIVIDUALS COVERED BY THIS SYSTEM:

SIGIR employees who request and are granted training related to their official duties and are reimbursed for related expenses.

CATEGORIES OF RECORDS IN THE SYSTEM:

SIGIR employees' training requests (DD Forms 1556), authorization forms, expense statements, vouchers, and supporting documentation.

AUTHORITY FOR MAINTENANCE OF THE SYSTEM:

The SIGIR's enabling legislation, § 3001 of the Emergency Supplemental Appropriations Act for Defense and for the Reconstruction of Iraq and Afghanistan, 2004 (Pub. L. 108-106; 117 Stat. 1209, 1234-1238; 5 U.S.C. app. 8G note), as cumulatively amended, and the Inspector General Act of 1978, as amended, Public Law 95-452, 5 U.S.C. App. 3. The Privacy Act, 5 U.S.C. 552a. SIGIR Training policy, SIGIR .7151.

PURPOSE(S):

To provide a system that covers payments to vendors and/or employee reimbursement related to official training expenses for SIGIR employees. This includes tracking of expenses incurred in such training.

ROUTINE USES OF RECORDS MAINTAINED IN THE SYSTEM, INCLUDING CATEGORIES OF USERS AND THE PURPOSES OF SUCH USES:

In addition to those disclosures generally permitted under 5 U.S.C. 552a(b) of the Privacy Act the records or information contained therein may specifically be disclosed outside the SIGIR as a “blanket” routine use pursuant to 5 U.S.C. 552a(b)(3) as set forth in SIGIR's System of Records Notices SIGIR-1—Investigative Files.

POLICIES AND PRACTICES FOR STORING, RETRIEVING, ACCESSING, RETAINING, AND DISPOSING OF RECORDS IN THE SYSTEM:

STORAGE:

SIGIR training files consist of paper records maintained in file folders, and in computer databases.

RETRIEVABILITY:

The records are retrieved by the name of the individual or by a unique control number assigned to each record.

SAFEGUARDS:

These records are available only to those persons whose official duties require such access. The records are kept in limited access areas during duty hours and in locked file rooms or locked offices at all times.

RETENTION AND DISPOSAL:

These records are kept in accordance with SIGIR's records retention schedule.

SYSTEM MANAGER(S) AND ADDRESS:

Office of the Director, Resource Management and Budget, SIGIR, 400 Army Navy Drive, Arlington, VA 22202-4704.

NOTIFICATION PROCEDURES:

All requests to determine whether this system of records contains a record pertaining to the requesting individual may be directed to the SIGIR Chief Freedom of Information Act Officer, 400 Army Navy Drive, Arlington, VA 22202-4704. The request should contain the individual's name, date of birth, Social Security number, identification number (if known), approximate date of record, and type of position.

RECORD ACCCESS AND CONTESTING PROCEDURES:

Same as “Notification Procedures” above.

RECORD SOURCE CATEGORIES:

Information in these records is supplied by the employee, training providers, and other information related to training requests, provision, and expenses.

SYSTEMS EXEMPTED FROM CERTAIN PROVISIONS OF THE ACT:

None.

[FR Doc. 2010-13481 Filed 6-4-10; 8:45 am]

BILLING CODE P